NATIONAL AERONAUTICS AND SPACE ADMINISTRATION

[Notice: 03-121]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted on or before October 30, 2003.

ADDRESSES: All comments should be addressed to Desk Officer for NASA; Office of Information and Regulatory Affairs; Office of Management and Budget; Room 10236; New Executive Office Building; Washington, DC 20503.

FOR FURTHER INFORMATION CONTACT: Ms. Nancy Kaplan, NASA Reports Officer, (202) 358-1372.

Title: Uncompensated Overtime.

OMB Number: 2700-0080.

Type of review: Extension of a currently approved collection.

Need and Uses: Information collected is required to evaluate the use of “uncompensated overtime” in bids and proposals submitted to NASA for the award of contracts for technical and professional services in support of NASA's mission and in response to contractual requirements. The requirement is based on section 834 of Public Law 101-510 (10 U.S.C. 2331) and FAR 37.115.

Affected Public: Business or other for-profit.

Number of Respondents: 300.

Responses Per Respondent: 1.

Annual Responses: 300.

Hours Per Request: 3.25.

Annual Burden Hours: 975.

Frequency of Report: On occasion.

Patricia Dunnington,
Chief Information Officer, Office of the Administrator.

[FR Doc. 03-24788 Filed 9-29-03; 8:45 am]

BILLING CODE 7510-01-P